NATIONAL AERONAUTICS AND SPACE ADMINISTRATION

[Notice (03-047)]

NASA Aerospace Technology Advisory Committee, Advanced Space Transportation Subcommittee; Meeting

AGENCY: National Aeronautics and Space Administration (NASA).

ACTION: Notice of meeting.

SUMMARY: The National Aeronautics and Space Administration announces a forthcoming meeting of the Aerospace Technology Advisory Committee (ATAC), Advanced Space Transportation Subcommittee (ASTS).

DATES: Tuesday, May 20, 2003, 1 p.m. to 5:30 p.m.; and Wednesday, May 21, 2003, 8 a.m. to 2:45 p.m.

ADDRESSES: Headquarters Air Force Space Command, Hartinger Building (Building 1), Peterson AFB, CO 80914-4570.

FOR FURTHER INFORMATION CONTACT: Ms. Mary-Ellen McGrath, Office of Aerospace Technology, National Aeronautics and Space Administration, Washington, DC 20546-0001, 202/358-4729.

SUPPLEMENTARY INFORMATION: The meeting will be open to the public up to the seating capacity of the room. The agenda for the meeting is as follows:

• Overview of meeting agenda/review of action items.

• Opening remarks.

• ATAC and Space Transportation update.

• NASA's Space Transportation Plan development process.

• USAF Space Transportation activities.

• Orbital Space Plane (OSP) update.

• OSP development roadmap.

• Next Generation Launch Technology (NGLT) update.

• OSP probabilistic risk assessment overview.

• Panel member discussions.

• Recommendations and action item assignment.

Attendees will be requested to sign a register and to comply with USAF security requirements, including the presentation of a valid picture ID, before receiving an access badge. All persons attending this meeting will be required to provide the following information: Full name; gender; date/place of birth; citizenship; social security number; security clearance status (if any) and effective date of security clearance; employer/affiliation information (name of institution, address, country, phone) and title/position of attendee. In addition, any foreign nationals must also supply: Visa/green card information (number, type, expiration date); passport information (number, country, expiration date). Attendance will require that all attendees provide identifying information at least two weeks in advance of the meeting, by contacting Major Harold Jordan, USAF via e-mail at Harold.Jordan@peterson.af.mil. Major Jordan may be contacted by telephone at 719/554-3563. Attendees will be escorted at all times.

It is imperative that the meeting be held on these dates to accommodate the scheduling priorities of the key participants.

June W. Edwards,
Advisory Committee Management Officer, National Aeronautics and Space Administration.

[FR Doc. 03-11116 Filed 5-5-03; 8:45 am]

BILLING CODE 7510-01-P